DEPARTMENT OF COMMERCE

Bureau of the Census

Request for Nominations of Member Organizations To Serve on the 2010 Census Advisory Committee

AGENCY: Bureau of the Census, Department of Commerce.

ACTION: Notice of request for nominations.

SUMMARY: The Bureau of the Census (Census Bureau) invites and requests nominations of organizations for appointment to the 2010 Census Advisory Committee (2010 CAC). The SUPPLEMENTARY INFORMATION section for this notice provides information about the objectives and duties of the advisory committee and membership criteria.

DATES: Please submit nominations by April 8, 2005.

ADDRESSES: Please submit nominations to Jeri Green, Chief, Census Advisory Committee Office, U.S. Census Bureau, Room 3627, Federal Building 3, 4700 Silver Hill Road, Washington, DC 20233, telephone 301-763-6590. Nominations also may be submitted via fax (301-457-2642) or by e-mail to jeri.green@census.gov.

FOR FURTHER INFORMATION CONTACT: Jeri Green, Chief, Census Advisory Committee Office, Census Bureau, Room 3627, Federal Building 3, 4700 Silver Hill Road, Washington, DC 20233, telephone 301-763-6590, or e-mail to jeri.green@census.gov.

SUPPLEMENTARY INFORMATION: The 2010 CAC was established in accordance with the Federal Advisory Committee Act (Title 5, United States Code (U.S.C.), Appendix 2). The following provides information about the Committee, membership, and nomination process:

Objectives and Duties

1. The 2010 CAC considers the needs of the decennial census from the perspective of outside data users and other organizations having a substantial interest and expertise in the conduct and outcome of the decennial. The Committee will provide advice on how best the Census Bureau can effectively and efficiently accomplish its decennial goals and objectives.

2. The 2010 CAC addresses policy, research, and technical issues related to the design and implementation of the 2010 decennial census, including the American Community Survey.

3. The Committee functions solely as an advisory body under the Federal Advisory Committee Act.

Membership

1. The Secretary of Commerce appoints the member organizations and designates the Chair and Vice-Chair of the Committee.

2. The 2010 CAC consists of a Chair, Vice-Chair, and a designated representative from each member organization. The 2010 CAC is comprised of up to twenty (20) member organizations. Member organizations represent data users, general governmental entities, technology-based organizations, and entities with expertise in the statutory and constitutional uses of census data, including redistricting. Membership also will include ex-officio members representing U.S. Senate and House of Representatives' Committees with census oversight responsibilities. A representative from the Census Advisory Committees on Race and Ethnic Populations also serves as ex-officio member. Ex-officio members serve in a non-voting capacity.

3. Committee members are selected in accordance with applicable Department of Commerce guidelines. The Committee's composition should reflect a balance of viewpoints and perspectives, considering such factors as geography, diversity in the sectors represented (i.e., business and industry, academia, consumers, etc.), and the public-at-large. The size and the scope of the member organization also are considered.

4. Committee members should have relevant backgrounds and experience to significantly assist and/or contribute to the overall functions, tasks, and missions of the decennial census. The members should bring diverse perspectives and be able to provide advice on policy and technical issues affecting the goals of ongoing decennial programs, surveys, and initiatives.

5. The Committee has the fewest number of members necessary to accomplish the objectives of the Charter. Committee membership will not duplicate other organizations, interests, or communities already represented on existing census advisory committees or census consultation groups (i.e., Census Information Centers or State Data Centers).

6. Committee members report to the Director of the Census Bureau.

Miscellaneous

1. Members of the Committee serve without compensation, but the Census Bureau will, upon request, reimburse travel expenses, as authorized by 5 U.S.C. 5701, et seq., dealing with travel and subsistence expenses.

2. The Committee meets at least once a year. Meetings are one to two days in duration.

3. Committee meetings are open to the public.

Nomination Information

1. The Census Bureau is seeking nominations for membership on the 2010 CAC to include organizations that are knowledgeable about issues related to the statutory and/or constitutional uses of the census data, general governmental entities, data users, and research and technology-based organizations.

2. Member organizations shall initially serve a staggered term of either two or three years. Upon completion of the initial terms, all subsequent terms shall be three years. Members may be invited to serve a second subsequent term contingent upon the organization's active participation in advisory committee activities, overall advisory committee needs for that organization's expertise and specialized advice, and the status and schedule of decennial planning activities and implementation.

3. Nominations of organizations may come from individuals or organizations. Organizations also may self-nominate. A summary of the organization's qualifications and the experience that qualifies it for membership should be included in the nomination letter. Nominated organizations must be able to actively participate in the tasks of the Committee, including, but not limited to regular meeting attendance, review of materials, and participation in conference calls, working groups, and special committee activities. All DCAC members included under the previous charter must apply for membership under the new 2010 CAC charter and structure.

4. The Department of Commerce is committed to equal opportunity in the workplace and seeks diverse Committee membership.

Dated: March 15, 2005.
Hermann Habermann,
Deputy Director and Chief Operating Officer, Bureau of the Census.

[FR Doc. 05-5392 Filed 3-17-05; 8:45 am]

BILLING CODE 3510-07-P